ENVIRONMENTAL PROTECTION AGENCY

[EPA-HQ-OPP-2014-0806; FRL-9918-77]

Pollinator Health Task Force; Notice of Public Meeting

AGENCY: Environmental Protection Agency (EPA).

ACTION: Notice.

SUMMARY: As part of the U.S. Government's efforts to promote the health of honey bees and other pollinators, the Pollinator Health Task Force (the Task Force) is soliciting stakeholder input on best management practices including pesticide risk mitigation, public-private partnerships, research, education opportunities, pollinator habitat improvements, and other actions that the Task Force should consider in developing a Federal strategy to reverse pollinator losses and help restore populations to healthy levels. EPA and the United States Department of Agriculture (USDA) will host two listening sessions in order to solicit stakeholder input to the Federal strategy.

DATES: Meetings: The meetings will be held on November 12, 2014, from 1 p.m. to 3 p.m., eastern standard time, and November 17, 2014, from 1 p.m. to 3 p.m., eastern standard time.

Comments: Written comments must be received on or before close of business November 24, 2014.

Request for accommodations: To request accommodation of a disability, please contact the person listed under FOR FURTHER INFORMATON CONTACT, preferably at least 10 days prior to the meeting, to give EPA and USDA as much time as possible to process your request.

ADDRESSES: Meetings: The November 12, 2014 meeting will be held at EPA, 1 Potomac Yard South, 2777 Crystal Dr., Arlington, VA, in the lobby-level Conference Center. Individuals attending the November 12, 2014 meeting must bring appropriate identification with them to the meeting. Identification requirements are available at: http://www.epa.gov/oppfead1/cb/csb_page/updates/2014/new-id.html.

The November 17, 2014 meeting will be held at USDA, 4700 River Rd., Riverdale, MD 20737.

Webinar: Stakeholders will be able to participate in the listening sessions via webinar. Instructions for webinar participation will be made available at http://www2.epa.gov/pollinator-protection prior to the first listening session.

Comments: Submit your comments, identified by docket identification (ID) number EPA-HQ-OPP-2014-0806, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Joseph Nevola, Pesticide Re-Evaluation Division (7508P), Office of Pesticide Programs, Environmental Protection Agency, 1200 Pennsylvania Ave. NW., Washington, DC 20460-0001; telephone number: (703) 308-8037; email address: nevola.joseph@epa.gov.

SUPPLEMENTARY INFORMATION:

I. General Information

A. Does this action apply to me?

This action is directed to the public in general, and may be of particular interest to persons who work in agricultural settings or persons who are concerned about pollinator health. You may be potentially affected by this action if you belong to any of the following entities: Agricultural workers and farmers; pesticide industry and trade associations; beekeepers; environmental, consumer, and farm worker groups; State, local, and tribal governments; academia; public health organizations; conservation organizations; and the public.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Background

The Task Force was created by President Barack Obama to develop a Federal strategy to promote the health of honey bees and other pollinators. Co-chaired by the USDA and the EPA, the Task Force includes membership from the Department of State, the Department of Defense, the Department of the Interior, the Department of Housing and Urban Development, the Department of Transportation, the Department of Energy, the Department of Education, the Council on Environmental Quality, the Domestic Policy Council, the General Services Administration, the National Science Foundation, the Federal Emergency Management Agency, the Delta Regional Authority, the Smithsonian, the National Aeronautics and Space Administration, the National Security Council staff, the Office of Management and Budget, the Office of Science and Technology Policy. The National Pollinator Health Strategy (the strategy) will include explicit goals, milestones, and metrics to measure progress. The strategy will include the following components:

1. A pollinator research action plan.

2. A public education plan.

3. Public-private partnerships.

Another critical piece of the strategy will focus on increasing and improving pollinator habitat. For additional information regarding the strategy, please see: http://www.whitehouse.gov/the-press-office/2014/06/20/presidential-memorandum-creating-federal-strategy-promote-health-honey-b.

The Task Force is particularly interested in hearing about opportunities for public-private partnerships to augment actions on research, education, and habitat expansion and improvement. To this end, and with emphasis on actions of substantial potential impact or amenability to scaling, the Task Force welcomes information on existing partnerships and opportunities for new partnerships, accompanied, where possible, with implementation details and recommendations.

Authority: 7 U.S.C. 136 et seq.

Dated: October 28, 2014.
Richard P. Keigwin, Jr.,
Director, Pesticide Re-Evaluation Division, Office of Pesticide Programs.

[FR Doc. 2014-26096 Filed 11-4-14; 8:45 am]

BILLING CODE 6560-50-P